DEPARTMENT OF THE INTERIOR

National Park Service

[NPS-WASO-NAGPRA-NPS0034905; PPWOCRADN0-PCU00RP14.R50000]

Notice of Intent To Repatriate Cultural Items: Southern Ute Cultural Center and Museum, Ignacio, CO

AGENCY: National Park Service, Interior.

ACTION: Notice.

SUMMARY: In accordance with the Native American Graves Protection and Repatriation Act (NAGPRA), the Southern Ute Cultural Center and Museum intends to repatriate certain cultural items that meet the definition of sacred objects and that have a cultural affiliation with the Indian Tribes or Native Hawaiian organizations in this notice.

DATES: Repatriation of the cultural items in this notice may occur on or after December 23, 2022.

ADDRESSES: Tallias Cantsee, Southern Ute Cultural Center and Museum, 503 Ouray Drive, Ignacio, CO 81137, telephone (970) 563-2996, email tcantsee@southernute-nsn.gov.

SUPPLEMENTARY INFORMATION: This notice is published as part of the National Park Service's administrative responsibilities under NAGPRA. The determinations in this notice are the sole responsibility of the Southern Ute Cultural Center and Museum. The National Park Service is not responsible for the determinations in this notice. Additional information on the determinations in this notice, including the results of consultation, can be found in the summary or related records held by the Southern Ute Cultural Center and Museum.

Description

The two cultural items were removed from Haudenosaunee territory through sale. Accession number SUM 251 was acquired through purchase by Southern Ute Cultural Center and Museum (SUCCM) Director Helen Hoskins, on January 29th, 1997. SUM 679 was originally a loan from the estate of Father Declan Madden to SUCCM during the directorship of Lynn Brittner. On July 17th, 2012, it was donated to SUCCM. The two sacred items are two Hatuwi (Broken Nose) False Face Masks.

Cultural affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: historical information available on Haudenosaunee False Face Masks was used as a baseline marker, and tribal expert opinion was utilized through virtual consultations as well as a site visit.

Determinations

Pursuant to NAGPRA and its implementing regulations, and after consultation with the appropriate Indian Tribes and Native Hawaiian organizations, the Southern Ute Cultural Center and Museum has determined that:

• The two cultural items described above are specific ceremonial objects needed by traditional Native American religious leaders for the practice of traditional Native American religions by their present-day adherents.

• There is a relationship of shared group identity that can be reasonably traced between the cultural items and the Cayuga Nation; Oneida Indian Nation (previously listed as Oneida Nation of New York); Oneida Nation (previously listed as Oneida Tribe of Indians of Wisconsin); Onondaga Nation; Saint Regis Mohawk Tribe (previously listed as St. Regis Band of Mohawk Indians of New York); Seneca Nation of Indians (previously listed as Seneca Nation of New York); and the Seneca-Cayuga Nation (previously listed as Seneca-Cayuga Tribe of Oklahoma).

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 23, 2022. If competing requests for repatriation are received, the Southern Ute Cultural Center and Museum must determine the most appropriate requestor prior to repatriation. Requests for joint repatriation of the cultural items are considered a single request and not competing requests. The Southern Ute Cultural Center and Museum is responsible for sending a copy of this notice to the Indian Tribes and Native Hawaiian organizations identified in this notice.

Authority: Native American Graves Protection and Repatriation Act, 25 U.S.C. 3003, and the implementing regulations, 43 CFR 10.8, 10.10, and 10.14.

Dated: November 16, 2022.
Melanie O'Brien,
Manager, National NAGPRA Program.

[FR Doc. 2022-25571 Filed 11-22-22; 8:45 am]

BILLING CODE 4312-52-P